DEPARTMENT OF HEALTH AND HUMAN SERVICES

Office of the Secretary

[Docket No. 2004S-0270]

Notice Announcing Publication of Report to Congress Entitled “Plan for the Transfer of Responsibility for Medicare Appeals” and Soliciting Comments

ACTION: Notice.

SUMMARY: This notice announces the publication of a Report to Congress entitled “Plan for the Transfer of Responsibility for Medicare Appeals”, and solicits public comments.

DATES: Comments need to be submitted by July 28, 2004.

ADDRESSES: You may submit comments, identifying them as having reference to Docket No. 2004S-0270, in any of the following ways:

• By E-mail: please include the above-cited docket number in the subject line of your message, and send the comments to fdadockets@oc.fda.gov. (Note: The Food and Drug Administration (FDA) is currently providing a repository for comments on documents issued by the Office of the Secretary).

• Through the U.S. Postal Service: send written comments to:

Food and Drug Administration, Division of Dockets Management, 5630 Fishers Lane, Room 1061, Rockville MD 20852-20201.

Please allow sufficient time for mailed comments to be received timely in the event of delivery delays. Because of staff and resource limitations, we cannot accept faxed comments. All comments received will be electronically posted without change to: http//www.fda.gov/dockets/ecomments, including any personal information provided. Paper copies may be viewed at the Division of Dockets Management at the above-cited address.

FOR FURTHER INFORMATION CONTACT: Catherine Tyrell, ASAM/HHS; telephone (202) 690-7431.

SUPPLEMENTARY INFORMATION:

I. Background

On December 8, 2003, the Medicare Prescription Drug, Improvement, and Modernization Act of 2003 (MMA) (Pub.L. 108-173) was enacted. Section 931 of the MMA requires transfer of responsibility for the Medicare appeals function from the Social Security Administration (SSA) to the Department of Health and Human Services (HHS) not earlier than July 1, 2005 and not later than October 1, 2005.

Also pursuant to section 931 of the MMA, the Commissioner of SSA and the Secretary of HHS were required to develop and transmit to the Congress and the Comptroller General of the United States a plan for the transfer of responsibility for this function, not later than April 1, 2004. Under section 931 of the MMA, the plan was required to address: the workload of the administrative law judges (ALJs), cost projections and financing, a timetable for the transition, the feasibility of giving certain decisions of the Departmental Appeals Board (DAB) precedential authority, access to ALJs, independence of ALJs, geographic distribution of ALJs, hiring of ALJs and support staff, appropriateness of establishing performance standards for ALJs, arrangements for shared resources with SSA, and training of ALJs. Consistent with this requirement, on March 25, 2004, the Secretary of HHS and the Commissioner of SSA submitted a Report to Congress entitled “Plan for the Transfer of Responsibility for Medicare Appeals.”

II. Provisions of the Notice

The report is published on the HHS Web site and can be viewed at www.hhs.gov/medicare/appealsrpt.pdf. We are soliciting comments from the public on how we might implement any and all aspects of the plan for the transition, as described in the report, and we are particularly interested in comments and ideas on how to best serve the public once responsibility for the Medicare appeals function is transferred to HHS in 2005. Please see the ADDRESSES section of this Notice for information about how to submit comments.

Dated: June 24, 2004.
Ann C. Agnew,
Executive Secretary to the Department.

[FR Doc. 04-14680 Filed 6-25-04; 8:45 am]

BILLING CODE 4150-03-P